DEPARTMENT OF ENERGY

Federal Energy Regulatory Commission

Combined Notice of Filings #1

Take notice that the Commission received the following electric rate filings:

Docket Numbers: ER10-2783-021; ER10-1616-020; ER10-1838-012; ER10-1847-010; ER10-1967-013; ER10-1968-012; ER10-1990-012; ER10-1993-012; ER10-2264-011; ER10-2756-012; ER10-2798-021; ER10-2799-021; ER10-2878-022; ER10-2879-021; ER10-2960-017; ER10-2969-021; ER18-1821-012; ER19-2231-009; ER19-2232-009; ER21-2423-009; ER21-2424-009; ER22-46-008; ER22-1402-005; ER22-1404-005; ER22-1449-005; ER22-1450-005; ER22-1662-004; ER22-2713-003.

Applicants: Parkway Generation Sewaren Urban Renewal Entity LLC, GB II New York LLC, GB II New Haven LLC, GB II Connecticut LLC, Parkway Generation Operating LLC, Parkway Generation Keys Energy Center LLC, Parkway Generation Essex, LLC, Generation Bridge M&M Holdings, LLC, Generation Bridge Connecticut Holdings, LLC, Chief Keystone Power II, LLC, Chief Conemaugh Power II, LLC, Walleye Power, LLC, Oswego Harbor Power LLC, Astoria Generating Company, L.P., Montville Power LLC, Middleton Power LLC, Devon Power LLC ,Connecticut Jet Power LLC, Griffith Energy LLC, Long Beach Generation LLC, Waymart Wind Farm, L.P., Somerset Windpower, LLC, Mill Run Windpower, LLC, Meyersdale Windpower LLC, Diablo Winds, LLC, Backbone Mountain Windpower, LLC, New Covert Generating Company, LLC, Arthur Kill Power LLC.

Description: Notice of Change in Status of Arthur Kill Power LLC, et al.

Filed Date: 4/25/24.

Accession Number: 20240425-5158.

Comment Date: 5 p.m. ET 5/16/24.

Docket Numbers: ER11-2335-020; ER10-2615-016; ER11-4634-012; ER15-748-009; ER15-1456-012; ER15-1457-012; ER19-464-005; ER19-967-005; ER19-968-006; ER20-464-003.

Applicants: Greenleaf Energy Unit 2 LLC, Manchester Street, L.L.C., Fairless Energy, L.L.C., Vermillion Power, L.L.C., Syracuse, L.L.C., Beaver Falls, L.L.C., Garrison Energy Center LLC, Hazleton Generation LLC, Plum Point Energy Associates, LLC, Dynegy Services Plum Point, LLC.

Description: Notice of Non-Material Change in Status of Plum Point Energy Associates, LLC, et al.

Filed Date: 4/22/24.

Accession Number: 20240422-5371.

Comment Date: 5 p.m. ET 5/13/24.

Docket Numbers: ER18-2511-008; ER23-2874-002.

Applicants: NorthWestern Energy Public Service Corporation, NorthWestern Corporation.

Description: Notice of Change in Status of NorthWestern Corporation, et al.

Filed Date: 4/25/24.

Accession Number: 20240425-5109.

Comment Date: 5 p.m. ET 5/16/24.

Docket Numbers: ER24-227-003.

Applicants: RPC Power, LLC.

Description: Tariff Amendment: Supplement to Application in Response to Deficiency Letter (ER24-227-) to be effective 4/26/2024.

Filed Date: 4/25/24.

Accession Number: 20240425-5124.

Comment Date: 5 p.m. ET 5/16/24.

Docket Numbers: ER24-1832-000.

Applicants: North Fork Solar Project, LLC.

Description: Baseline eTariff Filing: Application for Market Based Rate Authority to be effective 4/25/2024.

Filed Date: 4/24/24.

Accession Number: 20240424-5246.

Comment Date: 5 p.m. ET 5/15/24.

Docket Numbers: ER24-1833-000.

Applicants: Midcontinent Independent System Operator, Inc.

Description: 205(d) Rate Filing: 2024-04-25_SA 4273 NSP-County of Hennepin GIA to be effective 6/25/2024.

Filed Date: 4/25/24.

Accession Number: 20240425-5055.

Comment Date: 5 p.m. ET 5/16/24.

Docket Numbers: ER24-1834-000.

Applicants: Midcontinent Independent System Operator, Inc., American Transmission Company LLC.

Description: 205(d) Rate Filing: Midcontinent Independent System Operator, Inc. submits tariff filing per 35.13(a)(2)(iii: 2024-04-25_SA 4278 ATC-WEPCo E&P to be effective 4/26/2024.

Filed Date: 4/25/24.

Accession Number: 20240425-5056.

Comment Date: 5 p.m. ET 5/16/24.

Docket Numbers: ER24-1835-000.

Applicants: Southwest Power Pool, Inc.

Description: 205(d) Rate Filing: 4259 Mountrail-Williams Electric & Sheridan Electric Int Agr to be effective 12/31/9998.

Filed Date: 4/25/24.

Accession Number: 20240425-5067.

Comment Date: 5 p.m. ET 5/16/24.

Docket Numbers: ER24-1836-000.

Applicants: Public Service Company of New Mexico.

Description: Tariff Amendment: Notice of Cancellation to be effective 5/1/2024.

Filed Date: 4/25/24.

Accession Number: 20240425-5102.

Comment Date: 5 p.m. ET 5/16/24.

Docket Numbers: ER24-1837-000.

Applicants: California Independent System Operator Corporation

Description: 205(d) Rate Filing: 2024-04-25 Tariff Clarification—Non-Generator Resource Bidding Reqs in RUC to be effective 6/25/2024.

Filed Date: 4/25/24.

Accession Number: 20240425-5107.

Comment Date: 5 p.m. ET 5/16/24.

Docket Numbers: ER24-1838-000.

Applicants: Idaho Power Company.

Description: 205(d) Rate Filing: SA #492—Amended & Restated LGIA—IPC and Franklin to be effective 4/10/2024.

Filed Date: 4/25/24.

Accession Number: 20240425-5114.

Comment Date: 5 p.m. ET 5/16/24.

Docket Numbers: ER24-1839-000.

Applicants: PJM Interconnection, L.L.C.

Description: 205(d) Rate Filing: Amendment to ISA No. 6163, Queue No. AD1-155 (Amend) to be effective 6/25/2024.

Filed Date: 4/25/24.

Accession Number: 20240425-5150.

Comment Date: 5 p.m. ET 5/16/24.

Docket Numbers: ER24-1840-000.

Applicants: ISO New England Inc., New England Power Company.

Description: 205(d) Rate Filing: ISO New England Inc. submits tariff filing per 35.13(a)(2)(iii: ISO-NE & NEP; Original Service Agreement No. LGIA-ISONE/NEP-24-01 to be effective 3/26/2024.

Filed Date: 4/25/24.

Accession Number: 20240425-5198.

Comment Date: 5 p.m. ET 5/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 25, 2024.
Debbie-Anne A. Reese,
Acting Secretary.

[FR Doc. 2024-09443 Filed 4-30-24; 8:45 am]

BILLING CODE 6717-01-P